DEPARTMENT OF ENERGY

Federal Energy Regulatory Commission

[Docket No. IC01-574-000, FERC-574]

Proposed Information Collection and Request for Comments

April 13, 2001

AGENCY: Federal Energy Regulatory Commission DOE.

ACTION: Notice of proposed information collection and request for comments.

SUMMARY: In compliance with the requirements of section 3506(c)(2)(a) of the Paperwork Reduction Act of 1995 (Public Law 104-13), the Federal Energy Regulatory Commission (Commission) is soliciting public comment on the specific aspects of the information collection described below.

DATES: Consideration will be given to comments submitted on or before June 18, 2001.

ADDRESSES: Copies of the proposed collection of information can be obtained from and written comments may be submitted to the Federal Energy Commission, Attn: Michael Miller, Office of the Chief Information Officer, CI-1, 888 First Street NE., Washington, DC 20426.

FOR FURTHER INFORMATION CONTACT: Michael Miller may be reached by telephone at (202) 208-1415, by fax at (202) 208-2425, and by e-mail at mike.miller@ferc.fed.us.

SUPPLEMENTARY INFORMATION: The information collected under the requirements of FERC-574 “Gas Pipeline Certificates: Hinshaw Exemption” (OMB No. 1902-0116) is used by the Commission to implement the statutory provisions of sections 1(c), 4 and 7 of the Natural Gas Act (NGA)(P.L. 75-688)(15 U.S.C. 717-717w). Natural Gas Pipeline companies file applications with the Commission furnishing information in order for a determination to be made as to whether the applicant qualifies for an exemption from the provisions of the Natural Gas Act (Section 1(c)). If the exemption is granted, the pipeline is not required to file certificate applications, rate schedules, or any other applications or forms otherwise prescribed by the Commission.

The exemption applies to the companies engaged in the transportation or sale for resale of natural gas in interstate commerce if: (a) It receives gas at or within the boundaries of the state from another person; (b) such gas is transported, sold, consumed within such state; and (c) the rates, service and facilities of such company are subject to regulation by a State Commission. The date required to be filed by pipeline companies for an exemption is specified by 18 Code of Federal Regulations (CFR) Part 152.

Action: The Commission is requesting a three-year extension of the current expiration date, with no changes to the existing collections of data.

Burden Statement: Public reporting burden for this collection is estimated as:

Number of respondents | Number of responses per respondent | Average burden hours per response | Total annual burden hours
(1) | (2) | (3) | (1)x(2)x(3)
1 | 1 | 245 | 245 hours.

The estimated total cost of respondents is $13,786 (245 hours divided by 2.080 hours per year employee times $117,041 per year per average employee=$13,786). The cost per respondent is $13,786.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost of respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility of clarity of the information to be collected; and (4) ways to minimize the burden of the collection of information on those who are to respond, including the use of appropriate automated, electronic, mechanical, or other technological collection techniques or other forms of information technology, e.g., permitting electronic submission of responses.

David P. Boergers,
Secretary.

[FR Doc. 01-9705 Filed 4-18-01; 8:45 am]

BILLING CODE 6717-01-M